DEPARTMENT OF HOMELAND SECURITY

Federal Emergency Management Agency

[Docket ID: FEMA-2017-0014; OMB No. 1660-0016]

Agency Information Collection Activities: Proposed Collection; Comment Request; Revision to National Flood Insurance Program Maps: Application Forms and Instructions for LOMRs and CLOMRs

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning information required by FEMA to revise National Flood Insurance Program Maps.

DATES: Comments must be submitted on or before July 10, 2017.

ADDRESSES: To avoid duplicate submissions to the docket, please use only one of the following means to submit comments:

(1) Online. Submit comments at http://www.regulations.gov under Docket ID FEMA-2017-0014. Follow the instructions for submitting comments.

(2) Mail. Submit written comments to Docket Manager, Office of Chief Counsel, DHS/FEMA, 500 C Street SW., Room 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Brian Koper, Emergency Management Specialist, Federal Insurance and Mitigation Administration, DHS/FEMA, 202-646-3085. You may contact the Records Management Division for copies of the proposed collection of information at facsimile number (202) 646-3347 or email address: FEMA-Information-Collections-Management@fema.dhs.gov.

SUPPLEMENTARY INFORMATION: The National Flood Insurance Program (NFIP) is authorized by the National Flood Insurance Act of 1968, as amended, 42 U.S.C. 4001 et seq. The Federal Emergency Management Agency (FEMA) administers the NFIP and maintains the maps that depict flood hazard information. In 44 CFR 65.3, communities are required to submit technical information concerning flood hazards and plans to avoid potential flood hazards when physical changes occur. In 44 CFR 65.4, communities are provided the right to submit technical information when inconsistencies on maps are identified. In order to revise the Base (l-percent annual chance) Flood Elevations (BFEs), Special Flood Hazard Areas (SFHAs), and floodways presented on the NFIP maps, a community must submit scientific or technical data demonstrating the need for a revision. The NFIP regulations cited in 44 CFR part 65 outline the data that must be submitted for these requests. This collection serves to provide a standard format for the general information requirements outlined in the NFIP regulations, and helps establish an organized package of the data needed to revise NFIP maps.

Collection of Information

Title: Revision to National Flood Insurance Program Maps: Application Forms and Instructions for LOMRs and CLOMRs.

Type of Information Collection: Revision of a currently approved information collection.

OMB Number: 1660-0016.

FEMA Forms: FEMA Form 086-0-27, Overview and Concurrence Form; FEMA Form 086-0-27A, Riverine Hydrology and Hydraulics Form; FEMA Form 086-0-27B, Riverine Structures Form; FEMA Form 086-0-27C, Coastal Analysis Form; FEMA Form 086-0-27D, Coastal Structures Form; FEMA Form 086-0-27E, Alluvial Fan Flooding Form.

Abstract: The forms in this information collection are used to determine if the collected data will result in the modification of a BFE, a SFHA, or a floodway. Once the information is collected, it is submitted to FEMA for review and is subsequently included on the NFIP maps. Using these maps, lenders will determine the application of the mandatory flood insurance purchase requirements, and insurance agents will determine actuarial flood insurance rates.

Affected Public: State, Local and Tribal Government and Business or Other for-Profit Institutes.

Number of Respondents: 5,291.

Number of Responses: 5,291.

Estimated Total Annual Burden Hours: 16,107.

Estimated Cost: The estimated annual cost to respondents for the hour burden is $1,108,050. The cost to developers for engineer's services include scoping, surveying cross-sections, developing hydrologic and hydraulic analysis, and preparing work maps and reports documenting the engineering analysis and results is estimated to be $22,010,000. The cost to the Federal Government is $24,559.06.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: May 2, 2017.
William H. Holzerland,
Senior Director for Information Management, Mission Support, Federal Emergency Management Agency, Department of Homeland Security.

[FR Doc. 2017-09335 Filed 5-8-17; 8:45 am]

BILLING CODE 9111-52-P